DEPARTMENT OF ENERGY

Federal Energy Regulatory Commission

[Project No. 2187-042]

Public Service Company of Colorado; Notice of Availability of Environmental Assessment

In accordance with the National Environmental Policy Act of 1969, as amended, and the Federal Energy Regulatory Commission's regulations (18 CFR Part 380), Commission staff has reviewed plans, filed January 22, 2014, to replace Clear Lake Dam and the dam outlet works at the Georgetown Hydroelectric Project, which is located on South Clear Creek, approximately 50 miles west of Denver in Clear Creek County, Colorado.

The project licensee, Public Service Company of Colorado, plans to remove the Georgetown Project's existing Clear Lake Dam and outlet works, and construct a new roller compacted concrete dam and new outlet works in the same location. The work would correct dam safety concerns and minimize potential failure modes, maintain existing hydropower, water supply and recreation resources, minimize future operation and maintenance costs, and allow the licensee to maintain compliance with the dam safety requirements of Part 12 of the Commission's regulations.

An environmental assessment (EA) has been prepared as part of staff's review of the proposal. In the EA, Commission staff analyzed the probable environmental effects of the planned work and concluded that approval of the work, with appropriate environmental measures, would not constitute a major Federal action significantly affecting the quality of the human environment.

The EA is available for review and reproduction at the Commission's Public Reference Room, located at 888 First Street, NE., Room 2A, Washington, DC 20426. The EA may also be viewed on the Commission's Web site at http://www.ferc.gov using the “eLibrary” link. Enter the docket number (P-2187) in the docket number field to access the document. For assistance, contact FERC Online Support at FERC OnlineSupport@ferc.gov or toll-free at 1-866-208-3372, or for TTY, (202) 502-8659.

Dated: May 14, 2014.
Kimberly D. Bose,
Secretary.

[FR Doc. 2014-11710 Filed 5-20-14; 8:45 am]

BILLING CODE 6717-01-P